DEPARTMENT OF TRANSPORTATION

Federal Highway Administration

Environmental Impact Statement: San Francisco City and County, California

AGENCY: Federal Highway Administration (FHWA), DOT.

ACTION: Notice of intent.

SUMMARY: The FHWA is issuing this notice to advise the public that an environmental impact statement will be prepared for a proposed roadway improvement project in San Francisco City and County, California.

FOR FURTHER INFORMATION CONTACT: G. P. Bill Wong, Acting Team Leader, Project Delivery Team North, Federal Highway Administration, California Division, 980 Ninth Street, Suite 400, Sacramento, California 95814-2724. Telephone: 916-498-5042.

SUPPLEMENTARY INFORMATION: The FHWA, working with the California Department of Transportation and the San Francisco County Transportation Authority, will prepare an environmental impact statement (EIS) on a proposal to improve State Route 101, in the City and County of San Francisco, California. The proposed improvement would involve construction of a new roadway to replace the existing southern approach to the Golden Gate Bridge, between the Golden Gate Bridge Toll Plaza and Broderick Street for a distance of just over one mile. State Route 101 at this location is known as Doyle Drive.

The project is considered necessary to increase safety, to replace the existing elevated 57-year old roadway to meet current seismic standards, to minimize the impacts of the highway and its traffic on the Presidio and the local communities, and improve access to the Presidio. Alternatives under consideration include (1) taking no action; (2) construct six-lane at-grade parkway on same alignment; and (3) transportation system management improvements.

The project area is located within the Presidio of San Francisco, which is part of the Golden Gate National Recreation Area. The Presidio Trust and the National Park Service are land management agencies for the Presidio. The Presidio is a National Historic Landmark.

Letters describing this proposed action and soliciting comments will be sent to appropriate Federal, State, and local agencies and to private organizations and individuals that have previously expressed, or are known to have, an interest in this proposal. Three public scoping meetings will be held on the following dates, times and locations: (1) Friday, March 3, 2000 from 9:30 a.m. to 1:00 p.m. at 100 Van Ness, 25th Floor, San Francisco; (2) Tuesday, March 14, 2000 from 3:00 p.m. to 8:00 p.m. at the Golden Gate Club, The Presidio Building 135, Fisher Loop, San Francisco; and (3) Wednesday, March 15, 2000 from 6:00 p.m. to 9:00 p.m. at Marin Center Exhibit Hall, Avenue of the Flags, San Rafael, CA.

To ensure that the full range of issues and alternatives related to this proposed action are addressed and all significant issues identified, comments and suggestions are invited from interested parties. Comments or questions concerning this proposed action and the EIS should be directed to FHWA at the address provided above.

(Catalogue of Federal Domestic Assistance Program Number 20.205, Highway Planning and Construction. The regulations implementing Executive Order 12372 regarding intergovernmental consultation on Federal programs and activities apply to this program)

Issued on February 10, 2000.
G.P. Bill Wong,
Acting Team Leader, Sacramento.

[FR Doc. 00-3607 Filed 2-15-00; 8:45 am]

BILLING CODE 4910-22-M